DEPARTMENT OF THE INTERIOR

Bureau of Safety and Environmental Enforcement

[EEJJ000000 212E1700D2 ET1EE0000.EIS000]

Programmatic Environmental Impact Statement for Oil and Gas Decommissioning Activities on the Pacific Outer Continental Shelf

AGENCY: Bureau of Safety and Environmental Enforcement (BSEE), Interior.

ACTION: Notice of intent (NOI) to prepare a Programmatic Environmental Impact Statement (PEIS).

SUMMARY: Consistent with the regulations implementing the National Environmental Policy Act (NEPA), BSEE intends to prepare a PEIS to inform future decisions on applications for the decommissioning of oil and gas pipelines, platforms, and other facilities offshore of Southern California on the Pacific Outer Continental Shelf (OCS). The Bureau of Ocean Energy Management (BOEM) is assisting BSEE in the preparation of this environmental analysis.

DATES: BSEE requests comments concerning the scope of the analysis, identifying potential alternatives, significant issues for analysis (or those to be eliminated as insignificant), and potentially relevant information, studies, and analyses to be considered. All comments must be received by September 7, 2021. The draft PEIS is tentatively scheduled for publication in February 2022, followed by a 45-day public comment period. The final PEIS is tentatively scheduled for publication in June 2022, followed by a programmatic record of decision (ROD) no sooner than 30 days after publication of the final PEIS.

ADDRESSES: Comments may be submitted in writing or through www.regulations.gov. If in written form, comments may be delivered by hand or by mail, enclosed in an envelope labeled, “Pacific Decommissioning” and addressed to Richard Yarde, Regional Supervisor, Office of Environment, BOEM Pacific Region, 760 Paseo Camarillo, Suite 102, Camarillo, CA, 93010. Comments may also be submitted online through the regulations.gov web portal: Navigate to http://www.regulations.gov and search for Docket No. BOEM-2021-0043. Click on the “Comment Now!” button to the right of the document link. Enter your information and comment, then click “Submit.”

FOR FURTHER INFORMATION CONTACT: For information on the PEIS, contact Richard Yarde, Regional Supervisor, Office of Environment, at richard.yarde@boem.gov or 805-384-6379.

Individuals who use telecommunication devices for the deaf (TDD) may call the Federal Information Relay Service (FIRS) at 800-877-8339 between 8 a.m. and 8 p.m., Eastern Time, Monday through Friday.

SUPPLEMENTARY INFORMATION:

Purpose and Need for the Proposed Action

Oil and gas lessees, owners of operating rights, and holders of rights-of-way must decommission all OCS wells, platforms, other facilities, and pipelines, and clear the seafloor of all obstructions, in compliance with regulatory requirements principally located at 30 CFR part 250 Subpart Q. There are currently 23 oil and gas platforms and associated wells, facilities, and pipelines on the OCS offshore Southern California that were installed between the late 1960s and early 1990s and that will eventually need to be decommissioned. Lessees and owners of operating rights and holders of rights-of-way must first apply for and obtain approval from the appropriate BSEE District Manager or Regional Supervisor before decommissioning platforms, pipelines, and facilities. 30 CFR 250.1703-250.1704. Well abandonment activities are reviewed and completed prior to removal of platforms, pipelines, and other facilities, and are therefore not included within the scope of this PEIS. BSEE reviews decommissioning applications to ensure compliance with applicable regulatory standards and for safety and protection of other OCS uses and the environment. The purpose and need for this PEIS is to support future Federal review of and action on decommissioning applications for platforms, pipelines, and other facilities offshore Southern California on the Pacific OCS. Currently, eight oil and gas platforms on the OCS offshore Southern California, near Point Conception and in the Santa Barbara Channel, no longer produce oil and gas and are located on terminated leases that no longer allow resumption of production. BSEE expects to receive decommissioning applications for these platforms and associated pipelines and other facilities in the near term. It is currently unknown when decommissioning may be initiated for the remaining 15 platforms, though by regulation an initial platform removal application must be submitted for Pacific OCS facilities at least two years before production is projected to cease.

Preliminary Proposed Action and Alternatives

BSEE expects to analyze three alternatives in the PEIS: Complete Removal of platforms and associated facilities and pipelines (Preliminary Proposed Action); Partial Removal of platforms and any associated facilities and pipelines; and No Action. Each alternative is briefly described below. The action alternatives contain a number of overlapping elements. For example, a particular type of cutting tool might be used in either complete removal or partial removal, with no difference in the activity or the expected impacts. In these instances analysis of the options may be included as part of the Proposed Action only.

Alternative 1—Complete Removal (the Preliminary Proposed Action). The Preliminary Proposed Action is to authorize applications for complete removal of platforms and other facilities, decommissioning of all pipelines by removal, and clearing the seafloor of all obstructions created by the lease or right-of-way operations, as described in 30 CFR part 250 Subpart Q. These activities must be completed in a manner that is safe, does not unreasonably interfere with other uses of the OCS, and does not cause undue or serious harm to the environment.

Both the Proposed Action and Partial Removal alternative would consider several decommissioning tools and techniques that might be proposed for use in future decommissioning projects. Some of the tools and techniques that BSEE expects to consider include the use of mechanical, hydraulic, laser, explosive, or other tools for the severance of structures; different types and sizes of vessels; various methods of excavation around the jacket to facilitate removal; and the possibility of reefing some parts of the structure either nearby or at an alternative reefing site on the OCS.

Alternative 2—Partial Removal. Partial removal of platforms and other facilities may include removing the top of the platform jacket to a level that is at least 85 feet below the waterline while leaving the lower portions of the jacket intact. This alternative may include decommissioning pipelines in place once they have been properly prepared in accordance with 30 CFR 250.1750-250.1751.

Alternative 3—No Action. The PEIS will also evaluate a No Action alternative, which means no Federal action would be taken on decommissioning applications. This alternative would not meet the purpose and need of the Proposed Action or legal obligations of the bureau. However, this alternative is included as a comparison that helps in understanding the Proposed Action and the other action alternative and their associated impacts.

Summary of Expected Impacts

Potential environmental impacts may result from platform or other facility or pipeline removal, marine vessel operations, and, potentially, any objects or structures left in place. The primary resources potentially impacted may include air quality, water quality, wildlife habitat, benthic resources, fish, and marine mammals. Major socio-economic considerations may include commercial and recreational fishing, vessel space-use issues, and changes to the viewshed during and after decommissioning activities. Factors that may produce impacts include air emissions, water pollution, noise, habitat alteration, and turbidity.

Anticipated Permits and Authorizations

Neither the PEIS nor the resulting programmatic ROD will authorize any specific activities or approve any individual applications. The PEIS and ROD will provide a programmatic environmental analysis and framework to support future decisionmaking on individual decommissioning applications. When decommissioning applications are submitted to BSEE, the site-specific characteristics of the project will be evaluated at that time by preparing additional environmental analyses that may tier to this PEIS. Based on the site-specific applications and evaluations, BSEE may then reach a site-specific NEPA determination and approve, approve with conditions, or deny individual decommissioning applications. This PEIS will inform future BSEE decisions on various decommissioning activities, but will not independently approve or authorize any applications or permits and therefore neither the PEIS nor ROD will constitute final agency action.

Potential future BSEE decisions that may rely on this PEIS include decisions on initial platform removal applications (30 CFR 250.1726), decisions on final applications to remove a platform or other facility (30 CFR 250.1727), decisions on pipeline decommissioning applications (30 CFR 250.1750 and 250.1752), decisions on departure requests (30 CFR 250.142 and 250.1730), and decisions on alternate procedures or equipment requests (30 CFR 250.141). The decommissioning process may also require permits and approvals from other agencies, potentially including the U.S. Army Corps of Engineers, the U.S. Coast Guard, and the California Coastal Commission, among others. Further, decommissioning of OCS facilities may proceed concurrently with decommissioning activities for related oil and gas infrastructure located in State waters and onshore, and therefore may involve additional oversight and approvals from the State of California.

Schedule for the Decision-Making Process

The draft PEIS is tentatively scheduled for publication in February 2022. The final PEIS is tentatively scheduled for publication in June 2022, with a ROD to follow no sooner than 30 days later.

The timing of regulatory decisions that BSEE must make on future decommissioning applications is uncertain. BSEE could receive applications for decommissioning at any time over the next several years, with actual decommissioning occurring any time into subsequent years and possibly decades. The intent of this programmatic analysis is to analyze broad commonalities among expected future decommissioning projects and to provide a forum for early consideration of programmatic impacts and policy choices. BSEE expects that once decommissioning applications are received, additional analyses will then be tiered to this PEIS (including any supplemental PEISs, as appropriate) and will consider the site-specific circumstances present at that time.

Public Scoping Process

This NOI initiates the scoping process, which guides the development of the PEIS. The scope of the PEIS is the range of issues, alternatives, impacts, and mitigation measures to be considered. Scoping will help focus the analysis in the PEIS on the significant issues and alternatives and will eliminate from detailed consideration any issues that are insignificant or irrelevant. After the publication of this NOI in the Federal Register, the public will have 45 days to submit comments; the deadline to submit comments is identified in the DATES section above. The methods to submit comments are provided in the ADDRESSES section above. Supplemental information to assist the public in providing scoping comments is available at www.boem.gov/Pacific-decomm-PEIS. This supplemental information includes maps of the relevant geographic area, a description of the environmental setting, and further details about existing oil and gas infrastructure.

Please include your name and address as part of your comment. BSEE makes all comments, including the names, addresses, and other personally identifiable information included in the comment, available for public review online and during regular business hours. Individuals may request that BSEE withhold their names or addresses from the public record; however, BSEE cannot guarantee that it will be able to do so. In order for BSEE to withhold from disclosure your personally identifiable information, you must identify any information contained in your comments that, if released, would constitute a clearly unwarranted invasion of your privacy. You also must briefly describe any possible harmful consequences of the disclosure of information, such as embarrassment, injury, or other harm. All submissions from organizations or businesses and from individuals identifying themselves as representatives or officials of organizations or businesses will be made available for public inspection in their entirety.

NEPA Cooperating Agencies

BSEE invites other Federal agencies and State, federally recognized tribes (Tribes), and local governments to consider becoming cooperating agencies in the preparation of this PEIS. The Council on Environmental Quality (CEQ) NEPA regulations specify that qualified agencies and governments are those with “jurisdiction by law or special expertise.” 40 CFR 1501.7(h). Potential cooperating agencies should consider their authority and capacity to assume the responsibilities of a cooperating agency and should be aware that an agency's role in the environmental analysis neither enlarges nor diminishes the final decision-making authority of any other agency involved in the NEPA process.

Upon request, BSEE will provide potential cooperating agencies with a written summary of expectations for cooperating agencies, including schedules, milestones, responsibilities, scope and detail of cooperating agencies' contributions, and availability of pre-decisional information. BSEE anticipates this summary will form the basis for a memorandum of agreement between BSEE and any cooperating agency outside the Department of the Interior. Agencies also should consider the factors for determining cooperating agency status in CEQ's memorandum entitled, “Cooperating Agencies in Implementing the Procedural Requirements of the National Environmental Policy Act,” dated January 30, 2002. This document is available on the internet at: https://www.energy.gov/nepa/downloads/cooperating-agencies-implementing-procedural-requirements-national-environmental. BSEE, as the lead agency, will not provide financial assistance to cooperating agencies. Even if a governmental entity is not a cooperating agency, it will have opportunities to provide information and comments to BSEE during the public input stages of the NEPA process.

National Historic Preservation Act (NHPA) Consulting Parties

Certain individuals and organizations with a demonstrated interest in the Preliminary Proposed Action or alternatives may request to participate as NHPA consulting parties under 36 CFR 800.2(c)(5) based on their legal or economic stake in historic properties affected by the Preliminary Proposed Action or its alternatives. Additionally, the same provision allows those with concerns about the Preliminary Proposed Action's effect on historic properties to request to be consulting parties. Parallel with its NEPA analyses, BSEE will compile a list of potential consulting parties and, in writing, invite these potential participants to become consulting parties. To become a consulting party, those invited must respond in writing. Interested individuals or organizations that do not receive an invitation may request to be consulting parties by writing to BSEE via the means provided in the ADDRESSES section above. BSEE will determine which interested parties should be consulting parties.

Request for Identification of Potential Alternatives, Information, and Analyses Relevant to the Proposed Action

BSEE invites interested Federal and State agencies, Tribes, organizations and enterprises, and individuals to submit comments or suggestions that assist in identifying potentially significant environmental issues, relevant information, alternatives to the Proposed Action, and determining the scope of the Proposed Action.

Decision Maker

The decision maker for approving Pacific OCS decommissioning activities is the BSEE Pacific OCS Regional Director. The responsible official for the environmental analysis process and development of this PEIS is the BSEE Director.

Nature of Future Decisions To Be Made

The BSEE Pacific OCS Regional Director will render decisions regarding decommissioning applications for oil and gas platforms, pipelines, and other facilities and associated infrastructure on the OCS offshore Southern California in accordance with the applicable implementing regulations of the Outer Continental Shelf Lands Act (OCSLA), 30 CFR part 250 Subpart Q—Decommissioning Activities. Potential future decisions include approvals for initial platform removal applications, final applications to remove a platform or other facility, applications to decommission pipelines, and the granting of departures or alternate procedures or equipment.

Scott Mabry,
Acting Director, Bureau of Safety and Environmental Enforcement, Associate Director for Administration.

[FR Doc. 2021-15723 Filed 7-22-21; 8:45 am]

BILLING CODE 4310-VH-P